DEPARTMENT OF VETERANS AFFAIRS

38 CFR Part 4

RIN 2900-AK66

Special Monthly Compensation for Women Veterans Who Lose a Breast as a Result of a Service-Connected Disability

Correction

In proposed rule document 01-18207 beginning on page 37940 in the issue of Friday, July 20, 2001, make the following correction:

§ 4.116 [Corrected]

On page 37941, in the third column, the table is being reprinted in part to read as follows:

| Rating
Both or one | 0
Note: For VA purposes:
(1) Radical mastectomy means removal of the entire breast, underlying pectoral muscles, and regional lymph nodes up to the coracoclavicular ligament.
(2) Modified radical mastectomy means removal of the entire breast and axillary lymph nodes (in continuity with the breast). Pectoral muscles are left intact.
(3) Simple (or total) mastectomy means removal of all of the breast tissue, nipple, and a small portion of the overlying skin, but lymph nodes and muscles are left intact.
(4) Wide local excision (including partial mastectomy, lumpectomy, tylectomy, segmentectomy, and quadrantectomy) means removal of a portion of the breast tissue.

* * * * *

[FR Doc. C1-18207 Filed 5-29-02; 8:45 am]

BILLING CODE 1505-01-D